DEPARTMENT OF THE TREASURY

United States Mint

Notification of Citizens Coinage Advisory Committee April 27, 2010 Public Meeting

SUMMARY: Pursuant to United States Code, Title 31, section 5135(b)(8)(C), the United States Mint announces the Citizens Coinage Advisory Committee (CCAC) public meeting scheduled for April 27, 2010.

Date: April 27, 2010.

Time: 8:30 a.m. to 10 a.m.

Location: Sheraton Society Hill Hotel-Downtown Philadelphia, Cook Room, One Dock Street, Philadelphia, Pennsylvania 19106.

Subject: Review and discussion of candidate designs for the reverse of 2011 Native American $1 Coin. Discussion and planning for 2010 Annual Report.

Interested persons should call 202-354-7502 for the latest update on meeting time and room location.

In accordance with 31 U.S.C. 5135, the CCAC:

• Advises the Secretary of the Treasury on any theme or design proposals relating to circulating coinage, bullion coinage, Congressional Gold Medals, and national and other medals.

• Advises the Secretary of the Treasury with regard to the events, persons, or places to be commemorated by the issuance of commemorative coins in each of the five calendar years succeeding the year in which a commemorative coin designation is made.

• Makes recommendations with respect to the mintage level for any commemorative coin recommended.

FOR FURTHER INFORMATION CONTACT: Cliff Northup, United States Mint Liaison to the CCAC; 801 9th Street, NW.; Washington, DC 20220; or call 202-354-7200.

Any member of the public interested in submitting matters for the CCAC's consideration is invited to submit them by fax to the following number: 202-756-6830.

Authority: 31 U.S.C. 5135(b)(8)(C).

Dated: April 22, 2010.
Andrew Brunhart,
Deputy Director, United States Mint.

[FR Doc. 2010-9699 Filed 4-26-10; 8:45 am]

BILLING CODE P